ENVIRONMENTAL PROTECTION AGENCY

[FRL-9645-2]

Assessment of Potential Large-Scale Mining on the Bristol Bay Watershed of Alaska: Nomination of Peer Reviewers

AGENCY: Environmental Protection Agency (EPA).

ACTION: Call for nominations; extension.

SUMMARY: On February 24, 2012 EPA announced a two week period for the public to nominate qualified experts to be considered for the external review panel of an anticipated EPA draft report describing impacts associated with potential large-scale mining development in the Nushagak and Kvichak watersheds of Bristol Bay, Alaska. EPA is extending the nomination period by one week, in response to requests from stakeholders and the public.

DATES: The nomination period will be extended by one week and will end March 16, 2012.

ADDRESSES: Nominations of potential members of the Bristol Bay Assessment peer review panel are being accepted and evaluated by an independent EPA contractor. Nominations are being accepted online through an internet Web site, by U.S. Postal mail, or by an overnight/priority mail service. Those interested in submitting nominations online should complete the form found at http://www.versar.com/epa/bristolbaynominationform.html. Mailed nominations should be addressed to the EPA contractor, Versar, Inc., 6850 Versar Center, Springfield, VA 22151, should reference Bristol Bay Nomination Form, and should include all nominee information outlined in the SUPPLEMENTARY INFORMATION section. Mailed submissions must be received by March 16, 2012. Questions concerning the online form should be directed to the EPA contractor, Versar, Inc., at 6850 Versar Center, Springfield, VA 22151; by email bcolon@versar.com (subject line: Bristol Bay Assessment Nomination Form); or by phone: (703) 642-6727 (ask for Betzy Colon, the Peer Review Coordinator).

FOR FURTHER INFORMATION CONTACT: For additional information concerning the Bristol Bay Assessment peer review panel nominations, contact Dr. Kate Schofield, Office of Research and Development, The National Center for Environmental Assessment. Telephone: 703-347-8533; or email: schofield.kate@epa.gov.

SUPPLEMENTARY INFORMATION: Alaska's Bristol Bay watershed provides habitat for one of the largest wild salmon populations in the world. In February 2011, EPA began a scientific assessment of the Bristol Bay watershed to understand how large-scale mining activities might affect water quality and habitat. EPA will focus primarily on the Kvichak and Nushagak River drainages, the primary areas in the watershed open to large-scale development.

This assessment was launched in response to concerns from federally recognized tribes and others, who petitioned the agency to evaluate potential impacts of large-scale mining on aquatic resources. The assessment will evaluate the potential for large-scale mining development to have adverse effects on salmon and resident fish populations of the Kvichak and Nushagak River drainages, and if these effects are likely to affect wildlife and human populations in the region. Additional information describing the assessment, progress to date, and status can be found at: www.epa.gov/region10/bristolbay.

Expertise Sought: EPA is seeking nominations of experts to serve on the external peer review panel for the Bristol Bay Assessment. Nominees should possess, and demonstrate, background knowledge and experience in one or more of the following areas: (1) Metals (particularly porphyry copper) mining, (2) salmon fisheries biology, (3) surface, subsurface, or watershed hydrology, (4) aquatic ecology, (5) biogeochemistry, (6) seismology, (7) ecotoxicology, (8) wildlife ecology, and/or (9) indigenous Alaskan cultures.

Selection Criteria: Selection criteria for members of the external review panel include the following: (1) Demonstrated expertise through relevant peer reviewed publications; (2) professional accomplishments, and recognition by professional societies; (3) demonstrated ability to work constructively and effectively in a committee setting; (4) absence of financial conflicts of interest; (5) no actual conflicts of interest or the appearance of bias; (6) willingness to commit adequate time for the thorough review of the assessment report commencing in late April 2012; and (7) availability to participate in-person in a peer review panel meeting in Anchorage, Alaska during August 2012.

Nominee Information: Any interested person or organization may nominate qualified persons to be considered for appointment to the peer review panel. Self-nominations will also be accepted. Nominations may be submitted either online using the following URL: http://www.versar.com/epa/bristolbaynominationform.html or by mail to the EPA contractor listed in the ADDRESSES section. The following information should be provided on the nomination form/mail-in documentation: (1) Contact information for the person making the nomination; (2) contact information for the nominee; (3) the disciplinary and specific areas of expertise of the nominee; (4) the nominee's curriculum vita; (5) and a biographical sketch of the nominee indicating current position, educational background, past and current research activities, and recent service on other advisory committees or professional organizations. Persons having questions about the nomination procedures should contact the designated contact above.

Notification of nominees: EPA's contractor, Versar, Inc., will notify candidates of selection or non-selection. The Contractor may add additional experts to the list of nominees to develop a balanced panel representing the expertise needed to fully evaluate EPA's draft assessment report. After the peer review panel has been finalized, a list of panel members will be posted on the project Web site at www.epa.gov/region10/bristolbay. Compensation of non-federal peer review panel members will be provided by EPA's contractor.

Authority: Clean Water Act Section 404.

Dated: March 2, 2012.
Darrel A. Winner,
Acting Director, National Center for Environmental Assessment.

[FR Doc. 2012-5645 Filed 3-7-12; 8:45 am]

BILLING CODE 6560-50-P